INTERNATIONAL TRADE COMMISSION

[USITC SE-16-009]

Sunshine Act Meeting

AGENCY: United States International Trade Commission.

TIME AND DATE: March 25, 2016 at 9:30 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-557 and 731-TA-1312 (Preliminary) (Stainless Steel Sheet and Strip from China). The Commission is currently scheduled to complete and file its determinations on March 28, 2016; views of the Commission are currently scheduled to be completed and filed on April 4, 2016.

5. Outstanding action jackets: none

In accordance with Commission policy, subject matter listed above, not disposed of at the scheduled meeting, may be carried over to the agenda of the following meeting.

Issued: March 14, 2016.
By order of the Commission:
William R. Bishop,
Supervisory Hearings and Information Officer.

[FR Doc. 2016-06166 Filed 3-15-16; 4:15 pm]

BILLING CODE 7020-02-P